DEPARTMENT OF DEFENSE

Department of the Army, Corps of Engineers

33 CFR Part 334

[Docket Number COE-2022-0009]

Establishment of Three Danger Zones for the Naval Support Activity Annapolis, Annapolis, Maryland, in the Waters of Carr Creek and Whitehall Bay

AGENCY: U.S. Army Corps of Engineers, DoD.

ACTION: Proposed rule; reopening of comment period.

SUMMARY: On December 5, 2022, the U.S. Army Corps of Engineers (Corps) published a proposed rule to establish three danger zones in the waters of Carr Creek and Whitehall Bay in the vicinity of the Naval Support Activity Annapolis. The comment period ended on January 4, 2023. The Corps received numerous requests to extend the comment period, so we are reopening the comment period for 45 days. Comments previously submitted on the proposed rule do not need to be resubmitted, as they have already been incorporated into the administrative record and will be fully considered in the Corps' decision-making process for this rulemaking action.

DATES: The comment period for the proposed rule published at 87 FR 74348 on December 5, 2022 is reopened. Written comments must be submitted on or before March 6, 2023.

ADDRESSES: You may submit comments, identified by docket number COE-2022-0009, by any of the following methods:

Federal eRulemaking Portal: http://www.regulations.gov. Follow the instructions for submitting comments.

Email: david.b.olson@usace.army.mil. Include the docket number, COE-2022-0009 in the subject line of the message.

Mail: U.S. Army Corps of Engineers, Attn: CECW-CO-R (David B. Olson), 441 G Street NW, Washington, DC 20314-1000.

Hand Delivery/Courier: Due to security requirements, we cannot receive comments by hand delivery or courier.

Instructions: Instructions for submitting comments are provided in the proposed rule published on December 5, 2022 (87 FR 74348). Consideration will be given to all comments received by March 6, 2023.

FOR FURTHER INFORMATION CONTACT: Mr. David Olson, Headquarters, Operations and Regulatory Division, Washington, DC at 202-761-4922.

SUPPLEMENTARY INFORMATION: In the December 5, 2022, issue of the Federal Register (87 FR 74348), the Corps published a proposed rule to establish three permanent danger zones in the waters of Carr Creek and Whitehall Bay in the vicinity of the Naval Support Activity Annapolis, Annapolis, Maryland. The establishment of the proposed danger zone in Carr Creek is necessary to enable safe operation of the United States Naval Academy firing range and to reflect the routine and periodic usage of the firing range for training Sailors, Midshipmen, and law enforcement personnel. The establishment of the two proposed danger zones in Whitehall Bay is necessary to enable the safe operation of the United States Naval Academy firing range and to reflect irregular and infrequent usage of the range for training Sailors, Midshipmen, and law enforcement personnel. The firing range faces Carr Creek and, during times of operation, may present a danger to vessels located in the proposed danger zones. According to the installation, the firing range is normally in operation for live firing approximately 4 to 6 times per year.

The Corps has received numerous requests for an extension of the comment period for the proposed rule. Because the original comment period ended on January 4, 2023, we are reopening the comment period for 45 days. Comments must be received by March 6, 2023.

Thomas P. Smith,
Chief, Operations and Regulatory Division.

[FR Doc. 2023-00889 Filed 1-18-23; 8:45 am]

BILLING CODE 3720-58-P